INTERNATIONAL TRADE COMMISSION

[Investigation No. 731-TA-909 (Second Review)]

Low Enriched Uranium From France

Determination

On the basis of the record ¹ developed in the subject five-year review, the United States International Trade Commission (Commission) determines, pursuant to section 751(c) of the Tariff Act of 1930 (19 U.S.C. 1675(c)), that revocation of the antidumping duty order on low enriched uranium from France would be likely to lead to continuation or recurrence of material injury to an industry in the United States within a reasonably foreseeable time.²

¹ The record is defined in sec. 207.2(f) of the Commission's Rules of Practice and Procedure (19 CFR § 207.2(f)).

² Commissioner Kieff did not participate in this review. Commissioner Aranoff did not participate in the determination concerning this review. Commissioner Broadbent dissenting.

Background

The Commission instituted this review on December 3, 2012 (77 FR 71626) and determined on March 8, 2013 that it would conduct a full review (78 FR 19311, March 29, 2013). Notice of the scheduling of the Commission's review and of a public hearing to be held in connection therewith was given by posting copies of the notice in the Office of the Secretary, U.S. International Trade Commission, Washington, DC, and by publishing the notice in the Federal Register on April 10, 2013 (78 FR 21416). The hearing was held in Washington, DC, on September 10, 2013, and all persons who requested the opportunity were permitted to appear in person or by counsel.

The Commission completed and filed its determination in this review on December 6, 2013. The views of the Commission are contained in USITC Publication 4436 (December 2013), entitled Low Enriched Uranium from France: Investigation No. 731-TA-909 (Second Review).

By order of the Commission.

Issued: December 6, 2013.
Lisa R. Barton,
Acting Secretary to the Commission.

[FR Doc. 2013-29603 Filed 12-11-13; 8:45 am]

BILLING CODE 7020-02-P